DEPARTMENT OF ENERGY

Federal Energy Regulatory Commission

Combined Notice of Filings #1

November 01, 2010.

Take notice that the Commission received the following electric corporate filings:

Docket Numbers: EC11-15-000.

Applicants: South Carolina Electric & Gas Company.

Description: Application for Authorization under Section 203 of the Federal Power Act for Acquisition of Jurisdictional Facilities of South Carolina Electric & Gas Company.

Filed Date: 10/29/2010.

Accession Number: 20101029-5251.

Comment Date: 5 p.m. Eastern Time on Friday, November 19, 2010.

Take notice that the Commission received the following exempt wholesale generator filings:

Docket Numbers: EG11-7-000.

Applicants: Elk City II Wind, LLC.

Description: Notice of Self-Certification of Exempt Wholesale Generator Status of Elk City II Wind, LLC.

Filed Date: 10/28/2010.

Accession Number: 20101028-5158.

Comment Date: 5 p.m. Eastern Time on Thursday, November 18, 2010.

Take notice that the Commission received the following electric rate filings:

Docket Numbers: ER09-411-006.

Applicants: Midwest Independent Transmission System Operator, Inc.

Description: Revisions of Midwest Independent Transmission System Operator, Inc.

Filed Date: 10/29/2010.

Accession Number: 20101029-5250.

Comment Date: 5 p.m. Eastern Time on Friday, November 19, 2010.

Docket Numbers: ER10-1998-001.

Applicants: California Independent System Operator Corporation

Description: California Independent System Operator Corporation submits tariff filing per 35: 2010-10-29 CAISO's Price Correction Compliance Filing to be effective 9/30/2010.

Filed Date: 10/29/2010.

Accession Number: 20101029-5211.

Comment Date: 5 p.m. Eastern Time on Friday, November 19, 2010.

Docket Numbers: ER10-2056-001.

Applicants: California Independent System Operator Corporation.

Description: California Independent System Operator Corporation submits tariff filing per 35: 2010-10-29 CAISO MSG Transition Cost Compliance to be effective 11/15/2010.

Filed Date: 10/29/2010.

Accession Number: 20101029-5161.

Comment Date: 5 p.m. Eastern Time on Friday, November 19, 2010.

Docket Numbers: ER10-2524-001.

Applicants: Midwest Independent Transmission System Operator, Inc.

Description: Midwest Independent Transmission System Operator, Inc. submits tariff filing per 35.17(b): CapX-Fargo T-T Amendment to be effective 9/3/2010.

Filed Date: 10/29/2010.

Accession Number: 20101029-5150.

Comment Date: 5 p.m. Eastern Time on Friday, November 19, 2010.

Docket Numbers: ER10-2649-001.

Applicants: Ameren Illinois Company.

Description: Ameren Illinois Company submits tariff filing per 35.17(b): Amendment to ER10-2649 to be effective 12/31/9998.

Filed Date: 10/29/2010.

Accession Number: 20101029-5172.

Comment Date: 5 p.m. Eastern Time on Friday, November 19, 2010.

Docket Numbers: ER10-2776-001.

Applicants: Wells Fargo Commodities, LLC.

Description: Wells Fargo Commodities, LLC resubmits its Market-Based Rate Tariff, to be effective 9/17/2010 under ER10-2776. Filing Type: 140.

Filed Date: 10/29/2010.

Accession Number: 20101029-5000.

Comment Date: 5 p.m. Eastern Time on Friday, November 19, 2010.

Docket Numbers: ER10-2782-001.

Applicants: Midwest Generation LLC.

Description: Midwest Generation LLC submits tariff filing per 35: Midwest Generation, LLC Reactive Supply and Voltage Control Tariff to be effective 9/21/2010.

Filed Date: 11/01/2010.

Accession Number: 20101101-5091.

Comment Date: 5 p.m. Eastern Time on Monday, November 22, 2010.

Docket Numbers: ER11-2-001.

Applicants: ISO New England Inc., New England Power Pool Participants Committee.

Description: ISO New England Inc. submits tariff filing per 35.17(b): Amendment to Schedule 24 Tariff Revisions to be effective 12/1/2010.

Filed Date: 10/29/2010.

Accession Number: 20101029-5078.

Comment Date: 5 p.m. Eastern Time on Friday, November 19, 2010.

Docket Numbers: ER11-84-001.

Applicants: Carolina Power & Light Company.

Description: Carolina Power & Light Company submits tariff filing per 35.17(b): Errata to Rate Schedule No. 189 of Carolina Power and Light Co. to be effective 12/11/2010.

Filed Date: 10/29/2010.

Accession Number: 20101029-5091.

Comment Date: 5 p.m. Eastern Time on Friday, November 19, 2010.

Docket Numbers: ER11-1872-001.

Applicants: Carolina Power & Light Company.

Description: Carolina Power & Light Company submits tariff filing per 35.17(b): Errata to Rate Schedule No. 173 of Carolina Power and Light Co. to be effective 12/11/2010.

Filed Date: 10/29/2010.

Accession Number: 20101029-5090.

Comment Date: 5 p.m. Eastern Time on Friday, November 19, 2010.

Docket Numbers: ER11-1956-000.

Applicants: New York Independent System Operator, Inc.

Description: New York Independent System Operator, Inc. submits tariff filing per 35.13(a)(2)(iii: 205 Filing—Amendments to Voltage Support Service Program to be effective 1/1/2011.

Filed Date: 10/29/2010.

Accession Number: 20101029-5160.

Comment Date: 5 p.m. Eastern Time on Friday, November 19, 2010.

Docket Numbers: ER11-1957-000.

Applicants: Atlantic Path 15, LLC.

Description: Atlantic Path 15, LLC submits tariff filing per 35.13(a)(2)(iii: Atlantic Path 15—TRBAA Annual Update to be effective 1/1/2011.

Filed Date: 10/29/2010.

Accession Number: 20101029-5162.

Comment Date: 5 p.m. Eastern Time on Friday, November 19, 2010.

Docket Numbers: ER11-1958-000.

Applicants: Southwest Power Pool, Inc.

Description: Southwest Power Pool, Inc. submits tariff filing per 35.13(a)(2)(iii: 607R11 Westar Energy, Inc. NITSA and NOA to be effective 10/1/2010.

Filed Date: 10/29/2010.

Accession Number: 20101029-5191.

Comment Date: 5 p.m. Eastern Time on Friday, November 19, 2010.

Docket Numbers: ER11-1959-000.

Applicants: NorthWestern Corporation.

Description: NorthWestern Corporation submits tariff filing per 35.13(a)(2)(iii: NorthWestern Corporation First Revised Rate Schedule FERC No. 257 (MT) to be effective 1/1/2011.

Filed Date: 10/29/2010.

Accession Number: 20101029-5197.

Comment Date: 5 p.m. Eastern Time on Friday, November 19, 2010.

Docket Numbers: ER11-1960-000.

Applicants: PacifiCorp.

Description: PacifiCorp submits tariff filing per 35.13(a)(2)(iii): PAC Energy NITSA to be effective 9/30/2010.

Filed Date: 10/29/2010.

Accession Number: 20101029-5202.

Comment Date: 5 p.m. Eastern Time on Friday, November 19, 2010.

Docket Numbers: ER11-1961-000.

Applicants: Consolidated Edison Company of New York, Inc.

Description: Consolidated Edison Company of New York, Inc. submits tariff filing per 35.13(a)(2)(iii): Amendment to PASNY and EDDS Tariffs to be effective 11/1/2010.

Filed Date: 10/29/2010.

Accession Number: 20101029-5220.

Comment Date: 5 p.m. Eastern Time on Friday, November 19, 2010.

Docket Numbers: ER11-1962-000.

Applicants: Wheelabrator North Broward Inc.

Description: Wheelabrator North Broward Inc. submits tariff filing per 35.12: Wheelabrator North Broward Inc. MBR Tariff to be effective 12/28/2010.

Filed Date: 10/29/2010.

Accession Number: 20101029-5222.

Comment Date: 5 p.m. Eastern Time on Friday, November 19, 2010.

Docket Numbers: ER11-1963-000.

Applicants: PacifiCorp.

Description: PacifiCorp submits tariff filing per 35.13(a)(2)(iii): WAPA Purchase for Capacity in Casper-Dave Johnston Line to be effective 11/1/2010.

Filed Date: 10/29/2010.

Accession Number: 20101029-5223.

Comment Date: 5 p.m. Eastern Time on Friday, November 19, 2010.

Docket Numbers: ER11-1964-000.

Applicants: Dynegy Oakland, LLC.

Description: Dynegy Oakland, LLC submits tariff filing per 35.13(a)(2)(iii): Annual RMR Section 205 Filing and RMR Schedule F Informational Filing to be effective 1/1/2011.

Filed Date: 10/29/2010.

Accession Number: 20101029-5227.

Comment Date: 5 p.m. Eastern Time on Friday, November 19, 2010.

Docket Numbers: ER11-1965-000.

Applicants: Public Service Company of Oklahoma.

Description: Public Service Company of Oklahoma submits tariff filing per 35.12: 20101029 PSO Baseline RS and SA to be effective 10/29/2010.

Filed Date: 10/29/2010.

Accession Number: 20101029-5230.

Comment Date: 5 p.m. Eastern Time on Friday, November 19, 2010.

Docket Numbers: ER11-1966-000.

Applicants: Verde Energy USA Inc.

Description: Verde Energy USA Inc. submits tariff filing per 35.12: Baseline Filing to be effective 10/29/2010.

Filed Date: 11/01/2010.

Accession Number: 20101101-5000.

Comment Date: 5 p.m. Eastern Time on Monday, November 22, 2010.

Docket Numbers: ER11-1967-000.

Applicants: Midwest Independent Transmission System Operator, Inc.

Description: Midwest Independent Transmission System Operator, Inc. submits tariff filing per 35.13(a)(2)(iii): MidAmerican-CIPCO WDS to be effective 12/1/2010.

Filed Date: 11/01/2010.

Accession Number: 20101101-5037.

Comment Date: 5 p.m. Eastern Time on Monday, November 22, 2010.

Docket Numbers: ER11-1968-000.

Applicants: ISO New England Inc.

Description: ISO New England Inc. Resource Termination Filing.

Filed Date: 10/29/2010.

Accession Number: 20101029-5244.

Comment Date: 5 p.m. Eastern Time on Friday, November 19, 2010.

Docket Numbers: ER11-1969-000.

Applicants: ISO New England Inc.

Description: ISO New England Inc. Resource Termination Filing.

Filed Date: 10/29/2010.

Accession Number: 20101029-5247.

Comment Date: 5 p.m. Eastern Time on Friday, November 19, 2010.

Docket Numbers: ER11-1970-000.

Applicants: ISO New England Inc.

Description: ISO New England Inc. Resource Termination Filing.

Filed Date: 10/29/2010.

Accession Number: 20101029-5249.

Comment Date: 5 p.m. Eastern Time on Friday, November 19, 2010.

Docket Numbers: ER11-1971-000.

Applicants: Southern California Edison Company.

Description: Southern California Edison Company submits tariff filing per 35.13(a)(2)(iii): SCE Letter Agreement with Horizon for Homestead Wind Farm Project to be effective 10/15/2010.

Filed Date: 11/01/2010.

Accession Number: 20101101-5076.

Comment Date: 5 p.m. Eastern Time on Monday, November 22, 2010.

Docket Numbers: ER11-1972-000.

Applicants: Southwest Power Pool, Inc.

Description: Southwest Power Pool, Inc. submits tariff filing per 35.13(a)(2)(iii): 1765R3 KCP&L-GMO NITSA and NOAS to be effective 10/1/2010.

Filed Date: 11/01/2010.

Accession Number: 20101101-5077.

Comment Date: 5 p.m. Eastern Time on Monday, November 22, 2010.

Docket Numbers: ER11-1973-000.

Applicants: Wildorado Wind, LLC, Golden Spread Panhandle Wind Ranch, LLC.

Description: Wildorado Wind, LLC submits tariff filing per 35.13(a)(2)(iii): Revised Assignment, Contenancy and Common Facilities Agreement with Succession to be effective 10/14/2010.

Filed Date: 11/01/2010.

Accession Number: 20101101-5086.

Comment Date: 5 p.m. Eastern Time on Monday, November 22, 2010.

Docket Numbers: ER11-1974-000.

Applicants: Southern California Edison Company.

Description: Southern California Edison Company submits tariff filing per 35.13(a)(2)(iii): SCE Update ETC Reliability Services Rates to be effective 1/1/2011.

Filed Date: 11/01/2010.

Accession Number: 20101101-5088.

Comment Date: 5 p.m. Eastern Time on Monday, November 22, 2010.

Docket Numbers: ER11-1975-000.

Applicants: New York Independent System Operator, Inc.

Description: New York Independent System Operator, Inc. submits tariff filing per 35.13(a)(2)(iii): 205 Filing—Executed Standard LGIA-NYISO, LIPA, Long Island Solar Farm to be effective 10/15/2010.

Filed Date: 11/01/2010.

Accession Number: 20101101-5095.

Comment Date: 5 p.m. Eastern Time on Monday, November 22, 2010.

Docket Numbers: ER11-1976-000.

Applicants: Midwest Independent Transmission System Operator, Inc.

Description: Midwest Independent Transmission System Operator, Inc. submits tariff filing per 35.13(a)(2)(iii): MidAmerican-Lake View WDS to be effective 1/1/2011.

Filed Date: 11/01/2010.

Accession Number: 20101101-5096.

Comment Date: 5 p.m. Eastern Time on Monday, November 22, 2010.

Docket Numbers: ER11-1977-000.

Applicants: ISO New England Inc.

Description: ISO New England Inc. submits tariff filing per 35: Notice of Effective Date and Filing to Incorporate ER10-2152-000 into eTariff to be effective 1/1/2011.

Filed Date: 11/01/2010.

Accession Number: 20101101-5098.

Comment Date: 5 p.m. Eastern Time on Monday, November 22, 2010.

Docket Numbers: ER11-1978-000.

Applicants: Interstate Power and Light Company.

Description: Interstate Power and Light Company submits tariff filing per 35: IPL and ITC Midwest O & T Agreement Compliance Filing to be effective 11/2/2010.

Filed Date: 11/01/2010.

Accession Number: 20101101-5099.

Comment Date: 5 p.m. Eastern Time on Monday, November 22, 2010.

Docket Numbers: ER11-1979-000.

Applicants: Public Service Company of Oklahoma.

Description: Public Service Company of Oklahoma submits tariff filing per 35.13(a)(2)(iii): Elk City Wind 2—EPA to be effective 11/2/2010.

Filed Date: 11/01/2010.

Accession Number: 20101101-5100.

Comment Date: 5 p.m. Eastern Time on Monday, November 22, 2010.

Docket Numbers: ER11-1980-000.

Applicants: Gateway Energy Services Corporation.

Description: Gateway Energy Services Corporation submits tariff filing per 35: Order No. 697 Compliance Filing to be effective 9/15/2010.

Filed Date: 11/01/2010.

Accession Number: 20101101-5101.

Comment Date: 5 p.m. Eastern Time on Monday, November 22, 2010.

Docket Numbers: ER11-1981-000.

Applicants: Alcan Power Marketing, Inc.

Description: Alcan Power Marketing, Inc. submits tariff filing per 35.12: Baseline Filing to be effective 11/1/2010.

Filed Date: 11/01/2010.

Accession Number: 20101101-5103.

Comment Date: 5 p.m. Eastern Time on Monday, November 22, 2010.

Docket Numbers: ER11-1982-000.

Applicants: Pacific Gas and Electric Company.

Description: Pacific Gas and Electric Company submits tariff filing per 35.13(a)(2)(iii): GMC Tariff Update 2011 to be effective 1/1/2011.

Filed Date: 11/01/2010.

Accession Number: 20101101-5104.

Comment Date: 5 p.m. Eastern Time on Monday, November 22, 2010.

Docket Numbers: ER11-1983-000.

Applicants: Pacific Gas and Electric Company.

Description: Pacific Gas and Electric Company submits tariff filing per 35.13(a)(2)(iii): BART NITSA Modifications to be effective 1/1/2011.

Filed Date: 11/01/2010.

Accession Number: 20101101-5109.

Comment Date: 5 p.m. Eastern Time on Monday, November 22, 2010.

Docket Numbers: ER11-1984-000.

Applicants: PJM Interconnection, L.L.C.

Description: PJM Interconnection, L.L.C. submits tariff filing per 35.13(a)(2)(iii): Virginia Electric—Revised Mutual Operating Agreement—PJM SA No. 2692 to be effective 1/1/2011.

Filed Date: 11/01/2010.

Accession Number: 20101101-5114.

Comment Date: 5 p.m. Eastern Time on Monday, November 22, 2010.

Docket Numbers: ER11-1985-000.

Applicants: PJM Interconnection, L.L.C.

Description: PJM Interconnection, L.L.C. submits tariff filing per 35.13(a)(2)(iii): PSEG Request—Incentive Rate Treatment—Four Baseline Transmission Projects to be effective 1/1/2011.

Filed Date: 11/01/2010.

Accession Number: 20101101-5118.

Comment Date: 5 p.m. Eastern Time on Monday, November 22, 2010.

Docket Numbers: ER11-1986-000.

Applicants: Old Dominion Electric Cooperative, Inc.

Description: Request of Old Dominion Electric Cooperative to update depreciation rates.

Filed Date: 10/29/2010.

Accession Number: 20101029-5257.

Comment Date: 5 p.m. Eastern Time on Friday, November 19, 2010.

Take notice that the Commission received the following electric securities filings:

Docket Numbers: ES11-7-000.

Applicants: Baltimore Gas and Electric Company.

Description: Application of Baltimore Gas and Electric Company for Short-Term Borrowing Authority.

Filed Date: 10/29/2010.

Accession Number: 20101029-5245.

Comment Date: 5 p.m. Eastern Time on Friday, November 19, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-29045 Filed 11-17-10; 8:45 am]

BILLING CODE 6717-01-P